DEPARTMENT OF HEALTH AND HUMAN SERVICES

National Institutes of Health

National Cancer Institute; Amended Notice of Meeting

Notice is hereby given of a change in the meeting of the National Cancer Advisory Board, September 03, 2024, 06:00 p.m. to September 05, 2024, 12:00 p.m., National Cancer Institute, Shady Grove, 9609 Medical Center Drive, Room TE406 & 408, Bethesda, MD 20892, (In Person and Virtual Meeting), which was published in the Federal Register on July 31, 2024, FR Doc 2024-16816, 89 FR 61490.

This meeting notice is being amended to change the meeting time of the National Cancer Advisory Board (NCAB) Subcommittee Meetings; the date and time of the open session of the NCAB Meeting; and the time of the closed session of the NCAB. The NCAB Subcommittee Meetings on September 3, 2024, will now be held from 6:00 p.m. to 8:15 p.m. instead of from 6:00 p.m. to 9:00 p.m. The open session of the NCAB will now be held on September 4, 2024, from 9:00 a.m. to 3:15 p.m. instead of on September 4-5, 2024, from 9:00 a.m. to 12:00 p.m. The closed session of the NCAB on September 3, 2024, will now be held from 3:30 p.m. to 4:30 p.m. instead of from 3:50 p.m. to 5:00 p.m. The open session of the NCAB can be accessed from the NIH Videocast at the following link: https://videocast.nih.gov/. The meeting is partially closed to the public.

Dated: August 27, 2024.
David W. Freeman,
Supervisory Program Analyst, Office of Federal Advisory Committee Policy.

[FR Doc. 2024-19701 Filed 8-30-24; 8:45 am]

BILLING CODE 4140-01-P